ENVIRONMENTAL PROTECTION AGENCY

[ER-FRL-9029-8]

Environmental Impact Statements; Notice of Availability

Responsible Agency: Office of Federal Activities, General Information (202) 564-7146 or http://www.epa.gov/nepa.

Weekly receipt of Environmental Impact Statements (EISs)

Filed 10/17/2016 Through 10/21/2016

Pursuant to 40 CFR 1506.9.

Notice

Section 309(a) of the Clean Air Act requires that EPA make public its comments on EISs issued by other Federal agencies. EPA's comment letters on EISs are available at: http://www.epa.gov/compliance/nepa/eisdata.html.

EIS No. 20160246, Final, NMFS, FL, Amendment 37 to the Fishery Management Plan for the Snapper-Grouper Fishery of the South Atlantic Region, Modification to the Hogfish Fishery Management Unit, Fishing Level Specifications for the Two South Atlantic Hogfish Stocks, Rebuilding Plan for the Florida Keys/East Florida Stock, and Establishment/Revision of Management Measures for Both Stocks, Review Period Ends: 11/28/2016, Contact: Nikhil Mehta 727-551-5098

EIS No. 20160247, Final, BLM, NV, 3 Bars Ecosystem and Landscape Restoration Project, Review Period Ends: 11/28/2016, Contact: Todd Erdody 775-635-4000

EIS No. 20160248, Draft, VA, KY, Replacement Robley Rex VA Medical Center, Comment Period Ends: 12/12/2016, Contact: Todd Sanders 224-610-3872

EIS No. 20160249, Draft, USFS, OR, Government Camp—Cooper Spur Land Exchange, Comment Period Ends: 01/26/2017, Contact: Michelle Lombardo 503-668-1796

EIS No. 20160250, Draft, NPS, NY, Fire Island Wilderness Breach Management Plan, Comment Period Ends: 12/12/2016, Contact: Kaetlyn Jackson 631-687-4750

EIS No. 20160251, Final, OSM, TN, North Cumberland Wildlife Management Area, Tennessee Lands Unsuitable for Mining Petition Evaluation Document, Review Period Ends: 11/28/2016, Contact: Earl Bandy 865-545-4103

EIS No. 20160252, Draft, NSF, PR, Arecibo Observatory, Comment Period Ends: 12/12/2016, Contact: Elizabeth Pentecost 703-292-4907

EIS No. 20160253, Draft, USACE, KS, Kansas River Commercial Sand and Gravel Dredging, Comment Period Ends: 12/12/2016, Contact: Brian Donahue 816-389-3703

EIS No. 20160254, Final Supplement, USFWS, OH, Ballville Dam Project, Review Period Ends: 11/28/2016, Contact: Jessica Hogrefe 612-713-5102

Amended Notices

EIS No. 20160197, Draft, NOAA, HI, Heeia National Estuarine Research Reserve, Comment Period Ends: 10/31/2016, Contact: Jean Tanimoto 808-725-5253

Revision to the FR Notice Published 09/02/2016; Correction to Extended Comment Period from 10/30/2016 to 10/31/2016.

EIS No. 20160205, Draft Supplement, USACE, WV, Bluestone Dam Safety Modification, Comment Period Ends: 11/23/2016, Contact: Rebecca A. Rutherford 304-304-5924

Revision to FR Notice Published 09/09/2016; Extending Comment Period from 10/24/2016 to 11/23/2016.

Dated: October 25, 2016.
Dawn Roberts,
Management Analyst, NEPA Compliance Division, Office of Federal Activities.

[FR Doc. 2016-26109 Filed 10-27-16; 8:45 am]

BILLING CODE 6560-50-P